DEPARTMENT OF THE INTERIOR

Fish and Wildlife Service

50 CFR Part 17

[Docket No. FWS-R4-ES-2018-0035; FXES11130900000C2-189-FF09E42000]

RIN 1018-BB98

Endangered and Threatened Wildlife and Plants; Proposed Replacement of the Regulations for the Nonessential Experimental Population of Red Wolves in Northeastern North Carolina

AGENCY: Fish and Wildlife Service, Interior.

ACTION: Proposed rule; reopening of comment period.

SUMMARY: We, the U.S. Fish and Wildlife Service (Service), are reopening the public comment period on our June 28, 2018, proposed rule to replace the existing regulations governing the nonessential experimental population designation of the red wolf (Canis rufus) under section 10(j) of the Endangered Species Act of 1973, as amended (Act). We are reopening the comment period to allow the public an additional opportunity to review and comment on the proposed rule. Comments already submitted need not be resubmitted, as they will be fully considered in preparation of the final rule.

DATES: The comment period for the proposed rule published on June 28, 2018, at 83 FR 30382 is reopened. We will accept comments received or postmarked on or before August 28, 2018. Comments submitted electronically using the Federal eRulemaking Portal (see ADDRESSES, below) must be submitted by 11:59 p.m. Eastern Time on the closing date.

ADDRESSES: Availability of documents: The proposed rule is available on http://www.regulations.gov at Docket No. FWS-R4-ES-2018-0035 and on our website at http://www.fws.gov/Raleigh. Comments and materials we receive, as well as supporting documentation we used in preparing the proposed rule, are also available for public inspection at http://www.regulations.gov. All comments, materials, and documentation that we considered in the proposed rule are available for public inspection, by appointment, during normal business hours, at the Raleigh Ecological Services Field Office, U.S. Fish and Wildlife Service, 551F Pylon Drive, Raleigh, NC 27606; telephone 919-856-4520; facsimile 919-856-4556. Persons who use a telecommunications device for the deaf (TDD) may call the Federal Relay Service at 1-800-877-8339.

Comment submission: You may submit written comments on the proposed rule by one of the following methods:

(1) Electronically: Go to the Federal eRulemaking Portal: http://www.regulations.gov. In the Search box, enter FWS-R4-ES-2018-0035, which is the docket number for the rulemaking. Then, click on the Search button. On the resulting page, in the Search panel on the left side of the screen, under the Document Type heading, check the Proposed Rule box to locate this document. You may submit a comment by clicking on “Comment Now!”

(2) By hard copy: Submit by U.S. mail or hand-delivery to: Public Comments Processing, Attn: FWS-R4-ES-2018-0035, U.S. Fish and Wildlife Service, MS: BPHC, 5275 Leesburg Pike, Falls Church, VA 22041-3803.

We request that you send comments only by the methods described above. See Information Requested, below, for more information on submitting comments on the proposed rule.

FOR FURTHER INFORMATION CONTACT: Pete Benjamin, Field Supervisor, U.S. Fish and Wildlife Service, Raleigh Ecological Services Field Office, 551F Pylon Drive, Raleigh, NC 27606; telephone 919-856-4520; facsimile 919-856-4556. Persons who use a TDD may call the Federal Relay Service at 1-800-877-8339.

SUPPLEMENTARY INFORMATION:

Background

On June 28, 2018, we published in the Federal Register a proposed rule (83 FR 30382) to replace the regulations governing the northeast North Carolina (NC) nonessential experimental population (NEP) of the red wolf, which were codified in 1995 in title 50 of the Code of Federal Regulations (CFR) at § 17.84(c) (50 CFR 17.84(c)). That proposal had a 30-day comment period, ending July 30, 2018. The purpose of the proposed action is to incorporate the most recent science and lessons learned related to the management of red wolves to implement revised regulations that will better further the conservation of the red wolf. We propose to establish a more manageable wild propagation population that will allow for more resources to support the captive population component of the red wolf program (which is the genetic fail safe for the species); serve the future needs of new reintroduction efforts; retain the influences of natural selection on the species; eliminate the regulatory burden on private landowners; and provide a population for continued scientific research on wild red wolf behavior and population management.

Information Requested

We will accept written comments and information during this reopened comment period and will consider information and recommendations from all interested parties. If you previously submitted comments or information on the proposed rule, please do not resubmit them. We have incorporated them into the public record, and we will fully consider them in the preparation of our final determination. We intend that any final action resulting from the proposal will be based on the best scientific and commercial data available and be as accurate and as effective as possible.

We request comments or information from other concerned governmental agencies, Native American tribes, the scientific community, industry, or any other interested parties concerning the June 28, 2018, proposed rule. We particularly seek comments concerning:

(1) Contribution of the NC NEP to recovery goals for the red wolf;

(2) The relative effects that management of the NC NEP under the proposed rule would have on the conservation of the species;

(3) The extent to which the NC NEP may be affected by existing or anticipated Federal or State actions or private activities within or adjacent to the proposed NC NEP management area;

(4) Appropriate provisions for protections and “take” of red wolves;

(5) Ideas and strategies for promoting tolerance of red wolves on private property outside the NC NEP management area; and

(6) Appropriate means to evaluate the effectiveness of the proposed action, including relevant performance measures.

Additionally, we seek comments on the identification of direct, indirect, beneficial, and adverse effects that may result from the June 28, 2018, proposed rule. You may wish to consider the extent to which the proposed rule will affect the following when providing comments:

(1) Impacts on floodplains, wetlands, wild and scenic rivers, or ecologically sensitive areas;

(2) Impacts on Federal, State, local, or Tribal park lands; refuges and natural areas; and cultural or historic resources;

(3) Impacts on human health and safety;

(4) Impacts on air, soil, and water;

(5) Impacts on prime agricultural lands;

(6) Impacts to other species of wildlife, including other endangered or threatened species;

(7) Disproportionately high and adverse impacts on minority and low income populations;

(8) Any socioeconomic or other potential effects; and

(9) Any potential conflicts with other Federal, State, local, or Tribal environmental laws or requirements.

Please include sufficient information with your submission (such as scientific journal articles or other publications) to allow us to verify any scientific or commercial information you include.

We will post all comments on http://www.regulations.gov. If you submit information via http://www.regulations.gov, your entire submission—including any personal identifying information—will be posted on the website. If your submission is made via a hardcopy that includes personal identifying information, you may request at the top of your document that we withhold this information from public review. However, we cannot guarantee that we will be able to do so. We will post all hardcopy submissions on http://www.regulations.gov.

Comments and materials we receive, as well as supporting documentation we used in preparing the proposed rule, are available for public inspection on http://www.regulations.gov, or by appointment, during normal business hours, at the U.S. Fish and Wildlife Service, Raleigh Ecological Services Field Office (see FOR FURTHER INFORMATION CONTACT).

Authority: The authority for this action is the Endangered Species Act of 1973, as amended (16 U.S.C. 1531 et seq.).

Dated: July 30, 2018.
James W. Kurth,
Deputy Director, U.S. Fish and Wildlife Service, Exercising the Authority of the Director for the U.S. Fish and Wildlife Service.

[FR Doc. 2018-17320 Filed 8-10-18; 8:45 am]

BILLING CODE 4333-15-P